DEPARTMENT OF DEFENSE

Office of the Secretary

[Transmittal No. 24-36]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-36, Policy Justification, and Sensitivity of Technology.

Dated: November 13, 2025.
Aaron T. Siegel,
Alternate OSD Federal Register Liaison Officer, Department of Defense.

Transmittal No. 24-36

Notice of Proposed Issuance of Letter of Offer Pursuant to Section 36(b)(1) of the Arms Export Control Act, as amended

(i) Prospective Purchaser: Republic of Korea

(ii) Total Estimated Value:

Major Defense Equipment * | $2.5 billion.
Other | $1.0 billion.
TOTAL | $3.5 billion.

(iii) Description and Quantity or Quantities of Articles or Services under Consideration for Purchase:

Major Defense Equipment (MDE):

Thirty-six (36) AH-64E Apache Attack Helicopters

Seventy-six (76) T700-GE-701D Engines (72 installed, 4 spares)

Thirty-six (36) AN/ASQ-170 Modernized Target Acquisition and Designation Sight/AN/AAR-11 Modernized Pilot Night Vision Sensors (M-TADS/PNVS)

Fourteen (14) AN/APG-78 Fire Control Radars (FCR) with Mast Mounted Assembly (MMA)

Fourteen (14) AN/APG-78 Fire Control Radars (FCR) with Radar Electronic Units (REU)

Fourteen (14) AN/APR-48B Modernized-Radar Frequency Interferometers (MRFI)

Four hundred fifty-six (456) AGM-114R2 (N) Hellfire Missiles

Six (6) M36E8 Captive Air Training Missiles (CATM)

One hundred fifty-two (152) AGM-179A Joint Air-to-Ground Missiles (JAGM)

Forty (40) AAR-57 Common Missile Warning Systems (CMWS) (36 installed, 4 spares)

Non-Major Defense Equipment:

The following non-MDE items will also be included: AN/AVR-2B laser detecting sets; AN/APX-123A Identification Friend or Foe (IFF) transponders; IDM-401 improved data modems; Enhanced Image Intensifier (EI2) cameras; AN/ARN-149 (V)3 automatic direction finders; ASN-157 Doppler Radar Velocity Sensors; AN/APN-209 radar altimeters; AN/PYQ-10(C) Simple Key Loader; Airborne Global Positioning System (GPS)/Embedded Global Positioning System/Inertial Navigation System (EGI); AN/APR-39C(V)1+ Radar Signal Detecting sets; ARC-220 High Frequency Communication Systems; KIV-77 Mark XIIA IFF Crypto Applique; Common Missile Warning System (CMWS) software update; M230E-1 30mm automatic gun; M139 AWS 20mm automatic gun; M261 rocket launchers; M299 missile launchers; 2.75-inch rockets; 30mm rounds; MG62 Cartridge Impulse BBU-35/N; A965 cartridges, 25.4mm rounds; M839 decoys; L410 flares; M206 aircraft countermeasures decoy flares; Cartridge Actuated Devices/Propellant Actuated Devices (CAD/PADs); U.S. Government engineering, technical, and logistics support services; and other related elements of program and logistics support.

(iv) Military Department: Army (KS-B-ZJR)

(v) Prior Related Cases, if any: KS-B-ZCF, KS-B-ZFQ

(vi) Sales Commission, Fee, etc., Paid, Offered, or Agreed to be Paid: None known at this time

(vii) Sensitivity of Technology Contained in the Defense Article or Defense Services Proposed to be Sold: See Attached Annex

(viii) Date Report Delivered to Congress: August 19, 2024

* as defined in Section 47(6) of the Arms Export Control Act.

POLICY JUSTIFICATION

Republic of Korea—AH-64E Apache Helicopters

The Republic of Korea (ROK) has requested to buy thirty-six (36) AH-64E Apache Attack Helicopters; seventy-six (76) T700-GE-701D Engines (72 installed, 4 spares); thirty-six (36) AN/ASQ-170 Modernized Target Acquisition and Designation Sight/AN/AAR-11 Modernized Pilot Night Vision Sensors (M-TADS/PNVS); fourteen (14) AN/APG-78 Fire Control Radars (FCR) with Mast Mounted Assembly (MMA); fourteen (14) AN/APG-78 Fire Control Radars (FCR) with Radar Electronic Units (REU); fourteen (14) AN/APR-48B Modernized-Radar Frequency Interferometers (MRFI); four hundred fifty-six (456) AGM-114R2 (N) Hellfire Missiles; six (6) M36E8 Captive Air Training Missiles (CATM); one hundred fifty-two (152) AGM-179A Joint Air-to-Ground Missiles (JAGM); forty (40) AAR-57 Common Missile Warning Systems (CMWS) (36 installed, 4 spares). The following non-MDE items will also be included: AN/AVR-2B laser detecting sets; AN/APX-123A Identification Friend or Foe (IFF) transponders; IDM-401 improved data modems; Enhanced Image Intensifier (EI2) cameras; AN/ARN-149 (V)3 automatic direction finders; ASN-157 Doppler Radar Velocity Sensors; AN/APN-209 radar altimeters; AN/PYQ-10(C) Simple Key Loader; Airborne Global Positioning System (GPS)/Embedded Global Positioning System/Inertial Navigation System (EGI); AN/APR-39C(V)1+ Radar Signal Detecting sets; ARC-220 High Frequency Communication Systems; KIV-77 Mark XIIA IFF Crypto Applique; Common Missile Warning System (CMWS) software update; M230E-1 30mm automatic gun; M139 AWS 20mm automatic gun; M261 rocket launchers; M299 missile launchers; 2.75-inch rockets; 30mm rounds; MG62 Cartridge Impulse BBU-35/N; A965 cartridges, 25.4mm rounds; M839 decoys; L410 flares; M206 aircraft countermeasures decoy flares; Cartridge Actuated Devices/Propellant Actuated Devices (CAD/PADs); U.S. Government engineering, technical, and logistics support services; and other related elements of program and logistics support. The estimated total cost is $3.5 billion.

This proposed sale will support the foreign policy goals and national security objectives of the United States by improving the security of a major ally that is a force for political stability and economic progress in the Indo-Pacific region.

The proposed sale will improve the Republic of Korea's capability to meet current and future threats by providing a credible force capable of deterring adversaries and participating in regional operations. Korea will have no difficulty absorbing this equipment into its armed forces.

The proposed sale of this equipment and support will not alter the basic military balance in the region.

The principal contractors will be Boeing, located in Mesa, AZ; and Lockheed Martin, located in Orlando, FL. The purchaser typically requests offsets. Any offset agreement will be defined in negotiations between the purchaser and the contractor.

There will be no adverse impact on U.S. defense readiness as a result of this proposed sale.

Transmittal No. 24-36

Notice of Proposed Issuance of Letter of Offer Pursuant to Section 36(b)(1) of the Arms Export Control Act

Annex

Item No. vii

(vii) Sensitivity of Technology:

1. The AH-64E Apache Attack Helicopter is the Army's advanced attack helicopter, equipped for performing close air support, anti-armor, and armed reconnaissance missions. The aircraft contains the following communications and target identification equipment, navigation equipment, aircraft survivability equipment, displays, and sensors:

a. The AN/ASQ-170 Modernized Target Acquisition and Designation Sight/AN/AAQ-11 Pilot Night Vision Sensor (MTADS/PNVS) provides day, night, and limited adverse weather target information, as well as night navigation capabilities. The PNVS provides thermal imaging that permits nap-of-the-earth flight to, from, and within the battle area, while MTADS provides the copilot gunner with search, detection, recognition, and designation capabilities by means of Direct View Optics (DVO), television, and Forward Looking Infrared (FLIR) sighting systems that may be used singularly or in combinations.

b. The AN/APG-78 Fire Control Radar (FCR) is an active, low-probability of intercept, millimeter-wave radar, combined with a passive AN/APR-48B Modernized Radar Frequency Interferometer (M-RFI) mounted on top of the helicopter mast. The FCR Ground Targeting Mode detects, locates, classifies and prioritizes stationary or moving armored vehicles, tanks and mobile air defense systems as well as hovering helicopters, helicopters in flight, and fixed wing aircraft in normal flight. If desired, the radar data can be used to refer targets to the regular electro-optical Modernized Target Acquisition and Designation Sight (MTADS).

c. The AN/APR-48B Modernized Radar Frequency Interferometer (M-RFI) is an updated version of the passive radar detection and direction finding system. It utilizes a detachable User Data Module (UDM) on the M-RFI processor, which contains the Radar Frequency (RF) threat library.

d. The AGM-114R Hellfire is a semi-active laser guided missile with a multi-purpose warhead that can engage and defeat both high and heavily armored targets, personnel, bunkers, caves, and urban structures.

e. The JAGM-179A is an Air-to-Ground Missile (AGM) consisting of the Hellfire Romeo (AGM-114R) back-end (i.e., propulsion, warhead, and control sections) mated to a newly designed dual-mode guidance section (GS). The dual-mode GS is a combination of Millimeter Wave (MMW) and Semi-Active Laser (SAL) sensors co-axially aligned on a steerable gimbal. The combination of MMW and SAL sensors provide improved Precision Point (PP) and Fire-and-Forget (FF) capabilities in a single munition. This combination allows for targeting of fast moving and stationary targets in countermeasure and intensive battlefield environments, and in low cloud ceiling and adverse weather. Firing modes include Lock-On Before Launch (LOBL) and Lock-On After Launch (LOAL). Engagement modes include Point Designation (PD)—SAL only, Target Designation (PD)—SAL initiated with MMW engagement completion, Active Fire & Forget/Laser Queuing (AFF-LQ)—MMW initiated with SAL override capability, and Active Fire & Forget (AFF)-MMW only. Hosting platforms include select rotary-wing and fixed-wing aircraft, wheeled or tracked vehicles, ground-based pedestal launchers, and patrol boats. Targets include tactical armor, boats, bunkers, buildings, caves, personnel in the open, rotary-wing and slow fixed-wing aircraft, UAS, and fast-moving non-tactical vehicles. The MMW is capable of hitting low radar cross section targets.

f. The AAR-57 Common Missile Warning System (CMWS) detects energy emitted by threat missiles in-flight, evaluates potential false alarm emitters in the environment, declares validity of threats, and selects appropriate countermeasures for defeat. The CMWS consists of an Electronic Control Unit (ECU), Electro-Optic Missile Sensors (EOMSs), and Sequencer and Improved Countermeasures Dispenser (ICMD).

g. The AN/APR-39 Radar Warning Receiver Signal Detecting Set is a system that provides warning of a radar-directed air defense threat and allows for the employment of appropriate countermeasures. This is the 1553 data bus compatible configuration.

h. The Hellfire M36E8 Captive Air Training Missile (CATM) is a flight-training missile that consists of a functional guidance section coupled to an inert missile bus. It functions like a tactical missile during captive carry on the aircraft, absent launch capability, making it suitable for training the aircrew in simulated Hellfire Missile target acquisition and lock.

i. The AH-64E uses two EAGLE+MMR Embedded Global Positioning System (GPS)/Inertial Navigation Systems (INS) (EGI) with Multi-Mode Receiver. The EAGLE+MMR is a self-contained, all-attitude navigation system with an embedded GPS receiver controlled via MIL-STD-1553B controller, and provides output navigation and GPS timing data to support ADS-B out and other platform systems. The EAGLE EGI unit houses a 24 channel GPS receiver capable of operating in either Standard Positioning Service (SPS) C/A-code (non-encrypted) or Precise Positioning Service (PPS) Y-code (encrypted).

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Republic of Korea can provide substantially the same degree of protection for the sensitive technology being released as the U.S. Government. This sale is necessary in furtherance of the U.S. foreign policy and national security objectives outlined in the Policy Justification.

5. All defense articles and services listed in this transmittal have been authorized for release and export to the Republic of Korea.

[FR Doc. 2025-20062 Filed 11-17-25; 8:45 am]

BILLING CODE 6001-FR-P